DEPARTMENT OF ENERGY

Federal Energy Regulatory Commission

[Docket No. CP26-16-000]

Texas Gas Transmission, LLC; Notice of Schedule for the Preparation of an Environmental Assessment for the Carnation Project

On October 31, 2025, Texas Gas Transmission, LLC (Texas Gas) filed an application in Docket No. CP26-16-000 requesting a Certificate of Public Convenience and Necessity pursuant to Section 7(c) of the Natural Gas Act to construct and operate certain natural gas pipeline facilities. The proposed project is known as the Carnation Project (Project) and would increase the capacity of Texas Gas's interstate natural gas transmission system by about 170,000 dekatherms per day.

On November 13, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1767610234.

Schedule for Environmental Review

Issuance of EA—May 11, 2026

90-day Federal Authorization Decision Deadline ²—August 9, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Texas Gas proposes to install one new 14,189-horsepower compressor unit and associated facilities including one discharge filter separator, one emergency generator, and one unit blowdown silencer at its Crosby-Harrison Compressor Station in Hamilton County, Ohio. Texas Gas would also construct one electrical building and one storage building and install air compressor and receivers, associated piping and controls, and other auxiliary facilities.

At the New Haven Regulators Facility, also in Hamilton County, Texas Gas proposes to install two new single-run regulators with associated piping and controls on the MLS 26-1TT and MLS 26-2TT pipelines. About 20 feet of aboveground piping and 150 feet of below ground piping would be installed on the mainline pipelines.

Background

On December 3, 2025, the Commission issued a Notice of Scoping Period Requesting Comments on Environmental Issues for the Proposed Carnation Project (Notice of Scoping). The Notice of Scoping was sent to affected landowners; federal, state, and local government agencies; elected officials; environmental and public interest groups; Native American tribes; other interested parties; and local libraries and newspapers. In response to the Notice of Scoping, the Commission received comments from Our Children's Trust. The primary issues raised by the commenter are climate change, air pollution, and alternatives. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-16), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 14, 2026.
Debbie-Anne A. Reese,
Secretary.

[FR Doc. 2026-00989 Filed 1-16-26; 8:45 am]

BILLING CODE 6717-01-P